NATIONAL CAPITAL PLANNING COMMISSION

Notice of Final Adoption and Effective Date for a Revised Federal Transportation Element and Transportation Addendum for the Federal Elements of the Comprehensive Plan for the National Capital

AGENCY: National Capital Planning Commission.

ACTION: Notice of final adoption of and effective date.

SUMMARY: The National Capital Planning Commission (NCPC) adopted the Federal Transportation Element (Element) and Transportation Addendum of the “Comprehensive Plan for the National Capital: Federal Elements” on July 9, 2020. The Element guides the development and maintenance of a multimodal transportation system that meets the needs of federal workers, residents, and visitors, while improving regional mobility, transportation access, and environmental quality in the National Capital Region. The National Capital Region includes the District of Columbia; Montgomery and Prince George's Counties in Maryland; Arlington, Fairfax, Loudoun, and Prince William Counties in Virginia; and all cities within the boundaries of these counties. The Element provides the policy framework for Commission actions on plans and projects subject to Commission review.

DATES: The revised Element will become effective September 14, 2020.

ADDRESSES: The Element is available online for review at https://www.ncpc.gov/initiatives/transportation.

FOR FURTHER INFORMATION CONTACT: Johanna McCrehan at (202) 482-7206 or info@ncpc.gov.

SUPPLEMENTARY INFORMATION: The parking ratios contained in the updated Transportation Element apply to individual projects and facility master plans in the region. Following the effective date of the updated Element, individual projects subject to prior Commission action under parking ratios enacted in 2016 may be implemented using the 2016 ratios, unless project approval has expired. Installations within the L'Enfant City which currently meet the 2016 parking ratios should, at the time of their next Master Plan update, prepare a new Transportation Management Plan (TMP) in accordance with the 2020 parking ratios. Installations outside the boundary of the L'Enfant City where the parking ratio is proposed to increase should modify their existing TMP to detail how the 2020 parking ratio goals will be met over time and submit the modified TMP to the Commission at the next master plan update.

Authority: 40 U.S.C. 8721(a).

Dated: July 9, 2020.
Debra Dickson,
Director, Office of Administration.

[FR Doc. 2020-15323 Filed 7-15-20; 8:45 am]

BILLING CODE P